DEPARTMENT OF ENERGY

Federal Energy Regulatory Commission

[Docket No. RP04-235-000]

Kern River Gas Transmission Company; Notice of Proposed Changes in FERC Gas Tariff

April 2, 2004.

Take notice that on March 31, 2004, Kern River Gas Transmission Company (Kern River) tendered for filing as part of its FERC Gas Tariff, Second Revised Volume No. 1, the following tariff sheets, to be effective May 1, 2004:

Second Revised Sheet No. 17

Second Revised Sheet No. 59

Second Revised Sheet No. 125

Second Revised Sheet No. 126

Sixth Revised Sheet No. 140

Third Revised Sheet No. 400

Third Revised Sheet No. 401

Third Revised Sheet No. 420

Kern River states that the purpose of this filing is to revise Kern River's tariff to add a provision that would allow Kern River and its shippers to establish discounted rates that are calculated using formulas based on published index prices for specific receipt and/or delivery points or other published pricing reference points. Such index-based, discounted rates would be available for firm service (including capacity release), as well as for interruptible service.

Kern River states that it has served a copy of this filing upon its customers and interested State regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-795 Filed 4-8-04; 8:45 am]

BILLING CODE 6717-01-P